DEPARTMENT OF COMMERCE

National Oceanic and Atmospheric Administration

50 CFR Part 648

[Docket No. 030912231; I.D. 071905B]

Fisheries of the Northeastern United States; Scup Fishery; Adjustment to the 2005 Winter II Quota; Correction

AGENCY: National Marine Fisheries Service (NMFS), National Oceanic and Atmospheric Administration (NOAA), Commerce.

ACTION: Temporary rule; inseason adjustment.

SUMMARY: NMFS published a temporary rule in the Federal Register on August 2, 2005, to adjust the 2005 Winter II commercial scup quota and possession limit. NMFS has since received information that a substantial amount of scup landed during the 2005 Winter I period were misreported as porgies via the Electronic Dealer Reporting System. This action corrects the adjusted 2005 Winter II commercial scup quota and possession limit.

DATES: This rule is effective November 1, 2005, through December 31, 2005.

FOR FURTHER INFORMATION CONTACT: Sarah McLaughlin, Fishery Policy Analyst, (978) 281-9279.

SUPPLEMENTARY INFORMATION: NMFS published a final rule in the Federal Register on November 3, 2003 (68 FR 62250) implementing a process for years in which the full Winter I commercial scup quota is not harvested, to: allow unused quota from the Winter I period to be added to the quota for the Winter II period, and allow adjustment of the commercial possession limits for the Winter II period commensurate with the amount of quota rolled over from the Winter I period. Table 5 of the final 2005 quota specifications for summer flounder, scup, and black sea bass (70 FR 303, January 4, 2005) presented detailed information regarding Winter II possession limits, based on the amount of scup to be rolled over from Winter I to Winter II.

On August 2, 2005 (70 FR 44291), NMFS published a temporary rule in the Federal Register, transferring 2,223,502 lb (1,008,564 kg) of unused 2005 Winter I scup commercial quota to the 2005 Winter II period, resulting in an adjusted 2005 Winter II commercial scup quota and possession limit of 4,173,464 lb (1,893,051 kg) and 3,500 lb (1,588 kg), respectively. Since then, NMFS has determined that 291,135 lb (132,057 kg) of scup landed during the 2005 Winter I period were misreported as unclassified porgies or red porgies via the Electronic Dealer Reporting System, and has properly accounted for those landings as scup. The initial 2005 Winter II quota, as established in the final 2005 quota specifications (70 FR 303, January 4, 2005) is 1,949,962 lb (884,488 kg). Including updates in addition to those described above, the best available landings information as of September 18, 2005, indicates that 1,835,953 lb (832,774 kg) remain of the Winter I quota of 5,518,367 lb (2,503,089 kg). Consistent with the final rule to implement Framework Adjustment 3 to the Summer Flounder, Scup, and Black Sea Bass Fishery Management Plan (68 FR 62250, November 3, 2003), the full amount of unused 2005 Winter I quota is transferred to Winter II, resulting in a revised 2005 Winter II quota of 3,785,915 lb (1,717,262 kg). Consistent with the rollover specifications established in the 2005 final specifications (70 FR 303, January 4, 2005), the 2005 Winter II possession limit is adjusted to 3,000 lb (1,361 kg) per trip to provide an appropriate opportunity for fishing vessels to obtain the adjusted Winter II quota.

Classification

This action is required by 50 CFR part 648 and is exempt from review under Executive Order 12866.

Authority: 16 U.S.C. 1801 et seq.

Dated: September 28, 2005
Alan D. Risenhoover,
Acting Director , Office of Sustainable Fisheries, National Marine Fisheries Service.

[FR Doc. 05-19879 Filed 10-3-05; 8:45 am]

BILLING CODE 3510-22-S